DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR Part 107, Subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before September 27, 2004.

ADDRESSES: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of application for modification of exemption is published in accordance with Part 107 of the Federal hazardous materials transportation law (49 U.S.C. 5117(b); 49 CFR 1.53(b)).

New Exemption
Application number | Docket number | Applicant | Regulation(s) affected | Nature of exemption thereof
13736-N | RSPA-2004-18890 | Conoco Phillips, Anchorage, AK | 49 CFR 172.101 Table, Col (9B) | To authorize the transportation in commerce of 350-gallon bulk containers for use in transporting certain Class 3 hazardous materials. (mode 4)
13737-N | RSPA-2004-18903 | Sexton Can Company Inc., Decatur, AL | 49 CFR 173.304a | To authorize the manufacture, mark, sale and use of a DOT Specification 2Q non-refillable cylinder for use in transporting Division 2.1 flammable gas.
13738-N | RSPA-2004-18889 | Department of Energy, Washington, DC | 49 CFR 173.420(a)(4) | To authorize the one-time, one-way transportation of uranium hexafluoride cylinders without overpacks. (mode 1)
13756-N | RSPA-2004-18888 | Ultracore Corp., Park Ridge, IL | 49 CFR Subparts D, E and F of Part 172; 173.24(c) and Subparts E and F of Part 173 | To authorize the transportation in commerce of a specially designed device consisting of a metal tubing containing certain hazardous materials to be transported as essentially unregulated. (modes 1, 2, 3)
13757-N | RSPA-2004-18887 | Maryland Army National Guard, Havre de Grace, MD | 49 CFR 178.800 | To authorize the transportation in commerce of non-specification IBCs for use in transporting certain Division 6.1 hazardous materials.
13776-N | RSPA-2004-18886 | MHF Logistical Solutions, Cranberry Twp., PA | 49 CFR 173.427(b)(4) | To authorize the transportation in commerce of gondola cars equipped with a specially designed liner to be classified as an IP-1 package for use in transporting Class 7 hazardous materials. (mode 2)

Issued in Washington, DC, on August 23, 2004.
R. Ryan Posten,
Exemptions Program Officer, Office of Hazardous Materials Safety Exemptions & Approvals.

[FR Doc. 04-19571 Filed 8-26-04; 8:45 am]

BILLING CODE 4909-60-M